DEPARTMENT OF HEALTH AND HUMAN SERVICES

Substance Abuse and Mental Health Services Administration

Notice of Meetings

Pursuant to Public Law 92-463, notice is hereby given of the combined meeting of the Substance Abuse and Mental Health Services Administration's (SAMHSA) four National Advisory Councils (the SAMHSA National Advisory Council (NAC), the Center for Mental Health Services NAC, the Center for Substance Abuse Prevention NAC, and the Center for Substance Abuse Treatment NAC), SAMHSA's Advisory Committee for Women's Services, and SAMHSA's Tribal Technical Advisory Committee on March 29, 2011.

The Councils were established to advise the Secretary, Department of Health and Human Services (HHS), the Administrator, SAMHSA, and Center Directors, concerning matters relating to the activities carried out by and through the Centers and the policies respecting such activities.

Under Section 501 of the Public Health Service Act, the Advisory Committee for Women's Services (ACWS) is statutorily mandated to advise the SAMHSA Administrator and the Associate Administrator for Women's Services on appropriate activities to be undertaken by SAMHSA and its Centers with respect to women's substance abuse and mental health services.

Pursuant to Presidential Executive Order No. 13175, November 6, 2000, and the Presidential Memorandum of September 23, 2004, SAMHSA established the Tribal Technical Advisory Committee for working with Federally-recognized Tribes to enhance the government-to-government relationship, honor Federal trust responsibilities and obligations to Tribes and American Indian and Alaska Natives. The SAMHSA TTAC serves as an advisory body to SAMHSA.

The meeting will include a report from the SAMHSA Administrator and discussions related to SAMHSA's FY 2012 Budget, SAMHSA's Strategic Initiatives, and the revamped Mental Health and Substance Abuse Prevention and Treatment Block Grant application.

The meeting is open to the public. However, attendance is limited to space availability. Public comments are welcome. The meeting may be accessed via Webcast. To attend on site, obtain the call-in number and access code, submit written or brief oral comments, or request special accommodations for persons with disabilities, please register on-line at http://nac.samhsa.gov/Registration/meetingsRegistration.aspx, or communicate with SAMHSA's Committee Management Officer, Ms. Toian Vaughn (see contact information below).

Substantive program information may be obtained after the meeting by accessing the SAMHSA Committee Web site, http://nac.samhsa.gov/, or by contacting Ms. Vaughn.

Committee Names: Substance Abuse and Mental Health Services Administration National Advisory Council. Center for Mental Health Services National Advisory Council. Center for Substance Abuse Prevention National Advisory Council. Center for Substance Abuse Treatment National Advisory Council. SAMHSA's Advisory Committee for Women's Services. SAMHSA Tribal Technical Advisory Committee.

Date/Time/Type: March 29, 2011, 8:30 a.m.-5:30 p.m. (OPEN).

Place: SAMHSA, 1 Choke Cherry Road, SAMHSA Conference Rooms, Rockville, Maryland 20857.

Contact: Toian Vaughn, M.S.W., Committee Management Officer and Designated Federal Official, SAMHSA National Advisory Council, 1 Choke Cherry Road, Rockville, Maryland 20857, Telephone (240) 276-2307, Fax: (240) 276-1024 and E-mail: toian.vaughn@samhsa.hhs.gov.

The Substance Abuse and Mental Health Services Administration National Advisory Council will meet on March 30. The meeting will include the Administrator's report and follow up discussions related to the March 29 SAMHSA Joint Advisory Committee meeting.

The meeting is open to the public. However, attendance is limited to space availability. Public comments are welcome. To attend on-site, submit written or brief oral comments, or request special accommodations for persons with disabilities, please register at the SAMHSA Committees' Web site at http://nac.samhsa.gov/Registration/meetingsRegistration.aspx, or communicate with the SAMHSA Council's Designated Federal Official, Ms. Toian Vaughn (see contact information below).

Committee Name: Substance Abuse and Mental Health Services Administration National Advisory Council.

Date/Time/Type: March 30, 2011, 8:30 a.m.-12 p.m. (OPEN).

Place: SAMHSA, 1 Choke Cherry Road, Sugarloaf Conference Room, Rockville, Maryland 20857.

Contact: Toian Vaughn, M.S.W., Committee Management Officer and Designated Federal Official, SAMHSA National Advisory Council, 1 Choke Cherry Road, Rockville, Maryland 20857, Telephone (240) 276-2307, Fax: (240) 276-1024 and E-mail: toian.vaughn@samhsa.hhs.gov.

The Center for Mental Health Services National Advisory Council will meet on March 30. The meeting will include the Director's report, follow up discussions on SAMHSA's Strategic Initiative Paper, an update on the Institute on Medicine in Schools Programs Study, an update on the Mental Health Transformation State Incentive Grant Evaluation results, and presentations on SAMHSA's Mental Illness Messaging activities and Mental Health “First Aid.”

The meeting is open to the public. However, attendance is limited to space availability. Public comments are welcome. To attend on-site, submit written or brief oral comments, or request special accommodations for persons with disabilities, please register at the SAMHSA Committees' Web site at http://nac.samhsa.gov/Registration/meetingsRegistration.aspx, or communicate with the CMHS Council's Designated Federal Official, Ms. Carol Watkins (see contact information below).

Committee Name: Center for Mental Health Services National Advisory Council.

Date/Time/Type: March 30, 2011, 1:30 p.m.-5 p.m. (OPEN).

Place: SAMHSA, 1 Choke Cherry Road, Sugarloaf Conference Room, Rockville, Maryland 20857.

Contact: Carol Watkins, Designated Federal Official, CMHS National Advisory Council, 1 Choke Cherry Road, Rockville, Maryland 20857, Telephone (240) 276-2254, Fax: (240) 276-1395 and E-mail: carol.watkin2@samhsa.hhs.gov.

The Center for Substance Abuse Prevention National Advisory Council will meet on March 30. The meeting will include the executive leadership exchange; follow up discussion related to SAMHSA's Strategic Initiative for Prevention Paper, and presentations on CSAP's appropriation and budget.

The meeting is open to the public. However, attendance is limited to space availability. To attend on-site, submit written or brief oral comments, or request special accommodations for persons with disabilities, please register at the SAMHSA Committees' Web site at http://nac.samhsa.gov/Registration/meetingsRegistration.aspx, or communicate with the CSAP Council's Designated Federal Official, LTJG Michael Muni (see contact information below).

Committee Name: Center for Substance Abuse Prevention National Advisory Council.

Date/Time/Type: March 30, 2011, 1:30 p.m.-4:30 p.m. (OPEN).

Place: SAMHSA, 1 Choke Cherry Road, Rock Creek Conference Room, Rockville, Maryland 20857.

Contact: Michael Muni, Designated Federal Official, CSAP National Advisory Council, 1 Choke Cherry Road, Rockville, Maryland 20857, Telephone (240) 276-2559, Fax: (240) 276-2430 and E-mail: Michael.muni@samhsa.hhs.gov.

The Center for Substance Abuse Treatment National Advisory Council will meet on March 30. The meeting will include the Director's report and SAMHSA's FY 2012 Budget, and other administrative and program developments.

The meeting is open to the public. However, attendance is limited to space availability. Public comments are welcome. To attend on-site, or request special accommodations for persons with disabilities, please register at the SAMHSA Committees' Web site at http://nac.samhsa.gov/Registration/meetingsRegistration.aspx, or communicate with the CSAT Council's Designated Federal Official, Ms. Cynthia Graham (see contact information below).

Committee Name: Center for Substance Abuse Treatment National Advisory Council.

Date/Time/Type: March 30, 2011, 1 p.m.-5 p.m. (OPEN).

Place: SAMHSA, 1 Choke Cherry Road, Seneca Conference Room, Rockville, Maryland 20857.

Contact: Cynthia Graham, Designated Federal Official, CSAT National Advisory Council, 1 Choke Cherry Road, Rockville, Maryland 20857, Telephone (240) 276-1692, Fax: (240) 276-1690, E-mail: cynthia.graham@samhsa.hhs.gov.

The Substance Abuse and Mental Health Services Administration's Advisory Committee for Women's Services Committee (ACWS) will meet on March 30. The meeting will include a follow up discussion on SAMHSA's Strategic Initiatives Paper, review of gender-specific data in national trends of substance abuse related factors and the Trauma Peer Engagement Guide, updates from ACWS members, and other program developments.

Attendance by the public will be limited to space available. Public comments are welcome. To attend on site, submit written or brief oral comments, or to request special accommodations for persons with disabilities, please register at the SAMHSA Committees' Web site at http://nac.samhsa.gov/Registration/meetingsRegistration.aspx, or communicate with the ACWS Designated Federal Officer, Ms. Nevine Gahed (see contact information below).

Substantive meeting information and a roster of Committee members may be obtained either by accessing the SAMHSA Committees' Web site at http://nac.samhsa.gov/WomenServices/index.aspx, or by contacting Ms. Gahed. The transcript for the meeting will be available on the SAMHSA Committees' Web site within three weeks after the meeting.

Committee Name: SAMHSA's Advisory Committee for Women's Services.

Date/Time/Type: Wednesday, March 30, 2011, from 12:30 p.m.-4:30 p.m. (OPEN).

Place: 1 Choke Cherry Road, Great Falls Conference Room, Rockville, Maryland 20857.

Contact: Nevine Gahed, Designated Federal Officer, SAMHSA Advisory Committee for Women's Services, 1 Choke Cherry Road, Room 8-1058, Rockville, Maryland 20857, Telephone: (240) 276-2331; FAX: (240) 276-2010 and E-mail: nevine.gahed@samhsa.hhs.gov.

The Substance Abuse and Mental Health Services Administration Tribal Technical Advisory Committee (TTAC) will meet on March 30. The meeting will include a SAMHSA Administrator report and a presentation and discussion by the Principal Advisor for Tribal Affairs at the Department of Health and Human Services TTAC. The agenda will also include updates on SAMHSA's Health Reform activities; on SAMHSA's budget and legislative developments, and a status report on the Tribal Law and Order Act.

The meeting is open to the public. However, attendance is limited to space availability. Public comments are welcome. To attend on-site, submit written or brief oral comments, or request special accommodations for persons with disabilities, please register at the SAMHSA Committees' Web site at http://nac.samhsa.gov/Registration/meetingsRegistration.aspx, or communicate with the SAMHSA's Senior Advisor for Tribal Affairs, Ms. Sheila Cooper (see contact information below).

Committee Name: Substance Abuse and Mental Health Services Administration's Tribal Technical Advisory Committee.

Date/Time/Type: March 30, 2011, 8:30 p.m.-5 p.m. (OPEN).

Place: SAMHSA, 1 Choke Cherry Road, 8-1070 Conference Room, Rockville, Maryland 20857.

Contact: Sheila Cooper, Senior Advisor for Tribal Affairs, SAMHSA Tribal Technical Advisory Committee, 1 Choke Cherry Road, Rockville, Maryland 20857, Telephone (240) 276-2005, Fax: (240) 276-2010 and E-mail: sheila.cooper@samhsa.hhs.gov.

Toian Vaughn,
Committee Management Officer, Substance Abuse and Mental Health Services Administration.

[FR Doc. 2011-5448 Filed 3-9-11; 8:45 am]

BILLING CODE 4162-20-P